GENERAL SERVICES ADMINISTRATION

[2010-PBS-2; Docket 2010-0005; Sequence 15]

Notice of Intent To Prepare an Environmental Assessment, Request for Comments on Environmental Issues, and Notice of Public Scoping Meeting

AGENCY: Public Building Services (PBS); General Services Administration (GSA).

ACTION: Notice of intent to prepare an Environmental Assessment, request for comments on Environmental Issues, and Notice of Public Scoping Meeting.

SUMMARY: The General Services Administration (GSA) will prepare an Environmental Assessment (EA) that will analyze and discuss the environmental impacts of constructing and operating a proposed new Downtown Federal Building in Kansas City, Missouri. Through the project, GSA proposes to relocate its current operations from the Bannister Federal Complex in Kansas City, Missouri, and co-locate with other federal tenants at a proposed new Downtown Federal Building. The target property(ies) subject to this proposed action are those within an area bounded by 11th Street on the north, 12th Street on the south, Charlotte Street on the east, and Cherry Street on the west (known as city blocks 99 and 100), and could also include some level of development of 701 E. 12th Street, bounded by 12th Street, on the north, 13th Street, on the south, Holmes Street, on the west and Charlotte Street on the east. City blocks 99 and 100 lie within the downtown East Village development and tax increment financing (TIF) district, on the East-side of downtown, in Missouri's 5th Congressional District. In the EA, GSA will discuss impacts that could occur as a result of the construction and operation of the proposed project. GSA will also evaluate the “No Action” and other reasonable alternatives to the proposed project, or portions of the project, and consider how to lessen or avoid impacts on the various resource areas.

DATES: Comment date: Submit comments on or before January 31, 2011.

Public meeting date is: January 19, 2011, 9:30 a.m. to 12:30 p.m., St. Mary's Episcopal Church, 1307 Holmes, Kansas City, MO 64106.

ADDRESSES: Submit comments identified by Notice 2010-PBS-2, by any of the following methods:

• Regulations.gov: http://www.regulations.gov. Submit comments via the Federal eRulemaking portal by inputting “Notice 2010-PBS-2” under the heading “Enter Keyword or ID” and selecting “Search.” Select the link “Submit a Comment” that corresponds with “Notice 2010-PBS-2” Follow the instructions provided at the “Submit a Comment” screen. Please include your name, company name (if any), and “Notice 2010-PBS-2” on your attached document.

• Comments can also be filed electronically, by e-mail, to r06nepa@gsa.gov.

Instructions: Please submit comments only and cite “Notice 2010-PBS-2”, in all correspondence related to this case. All comments received will be posted without change to http://www.regulations.gov, including any personal and/or business confidential information provided.

FOR FURTHER INFORMATION CONTACT: Chris Powers, GSA Regional NEPA Coordinator, 1500 East Bannister Road, Room 2135 (6PTA), Kansas City, MO 64131; Telephone (816) 823-5799.

SUPPLEMENTARY INFORMATION: General: This EA is being prepared pursuant to the National Environmental Policy Act, 42 U.S.C. 4321, (NEPA), and regulations implementing NEPA issued by the Council on Environmental Quality (40 CFR 1500-1508), GSA ADM 1095.1, the GSA PBS NEPA Desk Guide and other applicable regulations and policies. The EA will inform GSA in its decision-making process. Compliance with the National Historic Preservation Act (NHPA), including NHPA Section 106, and other laws and requirements, will be coordinated with this EA process, and government agencies that are affected by the proposed actions or have special expertise will be consulted, whether or not they are cooperating agencies. GSA is already involved in discussions with other jurisdictional agencies to identify their issues and concerns. With this notice, GSA is asking agencies with jurisdiction and/or special expertise with respect to environmental issues to formally cooperate with GSA in the preparation of the EA. These agencies may choose to participate once they have evaluated the proposal relative to their responsibilities. Agencies that would like to request cooperating agency status should follow the instructions for filing comments provided, above. An independent analysis of the issues will be presented in the EA. The EA will be placed in the public record and a comment period will be allotted on the Draft EA. GSA will consider all comments on the EA before making a final decision.

Purpose of Notice: The purpose of this notice is to: (1) Announce GSA's intent to prepare an EA; (2) announce the initiation of the public scoping process; (3) invite public participation during the scoping process and at the public scoping meeting; and (4) request public comments on the scope of the EA, including the potential environmental impacts associated with the proposed action.

Further Information on Public Participation and Dates: The public is encouraged to provide GSA with specific comments or concerns about the project. Comments should focus on the potential environmental effects, reasonable alternatives, and measures to avoid or lessen environmental impacts.

In addition to the above methods for submission of comments, those interested may also file a paper copy of comments, by regular mail, to Chris Powers, GSA Region 6 NEPA Coordinator, 1500 E. Bannister Road, Room 2135, Kansas City, Missouri 64131 or verbally offer comments to GSA's Region 6 NEPA Coordinator by calling (816) 823-5799.

Again, comments should be sent to GSA on or before January 31, 2011. With any comments, before including address, phone number, e-mail address, or other personal identifying information in your comment, be advised that the entire comment, including personal identifying information, may be made publicly available at any time. While you can ask in your comment to withhold from public review personal identifying information, GSA cannot guarantee that it will be able to do so.

Finally, in lieu of or in addition to sending written comments, GSA also invites you to attend the public scoping meeting scheduled and discussed in the body of this notice, above. Comments made at the public scoping meeting will also be considered in the EA process.

State and local government representatives are asked to notify their constituents of this planned project and encourage them to comment on their areas of concern.

A fact sheet prepared by GSA will be made available at the Public Scoping Meeting and will be posted to a GSA Project Web site (http://www.gsa.gov/r6news), thereafter.

Dated: December 10, 2010.
Kevin D. Rothmier,
Director of Portfolio Management (6PT), U.S. General Services Administration, PBS, Heartland Region.

[FR Doc. 2010-31724 Filed 12-16-10; 8:45 am]

BILLING CODE 6820-CG-P